DEPARTMENT OF TRANSPORTATION

Surface Transportation Board

[Docket No. FD 35899]

Burlington Shortline Railroad, Inc., d/b/a Burlington Junction Railway—Operation Exemption—Rail Line of the City of Le Mars, Iowa

Burlington Shortline Railroad, Inc., d/b/a Burlington Junction Railway (BSLR), a Class III rail carrier, has filed a verified notice of exemption under 49 CFR 1150.41 to operate approximately 5,600 feet of certain private industry track located inside an industrial park owned by the City of Le Mars, Iowa (the City).¹

¹ According to BSLR, there are no mileposts associated with the line.

BSLR states that it has executed a Switching Services Agreement with the City giving it the exclusive right to provide switching services over the track owned by the City and over connecting industry-owned track. BSLR further states that it will provide all common carrier rail services, replacing industrial switching services that the Chicago Central & Pacific Railroad Company currently provides.

BSLR states that there are no agreements applicable to the line imposing any interchange commitments.

BSLR certifies that its projected annual revenues as a result of this transaction will not exceed those that would qualify it as a Class II or Class I rail carrier and will not exceed $5 million.

BSLR states that it intends to consummate the proposed transaction on or after April 1, 2015. The transaction may be consummated on or after February 13, 2015, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than February 6, 2015 (at least seven days before the exemption becomes effective).

An original and ten copies of all pleadings, referring to Docket No. FD 35899, must be filed with the Surface Transportation Board, 395 E Street, SW., Washington, DC 20423-0001. In addition, one copy of each pleading must be served on John D. Heffner, Strasburger & Price, LLP, 1025 Connecticut Ave. NW., Suite 717, Washington, DC 20036.

Board decisions and notices are available on our Web site at www.stb.dot.gov.

Decided: January 26, 2015.
By the Board, Rachel D. Campbell, Director, Office of Proceedings.
Raina S. White,
Clearance Clerk.

[FR Doc. 2015-01737 Filed 1-29-15; 8:45 am]

BILLING CODE 4915-01-P